CORPORATION FOR NATIONAL AND COMMUNITY SERVICE

Sunshine Act Notice

The Board of Directors of the Corporation for National and Community Service gives notice of the following meeting:

Date and Time: Tuesday, September 23, 2003, 10 a.m.—12 p.m.

Place: Corporation for National and Community Service, 1201 New York Avenue, NW. 8th Floor, Room 8410, Washington, DC 20525.

Status: Open.

Matters to be Considered:

I. Chair's Opening Remarks.

II. Consideration of Prior Meeting's Minutes.

III. Committee Reports.

IV. 2004 Americorps Program Guidelines.

V. Public Comment.

Accommodations: Anyone who needs an interpreter or other accommodation should notify the Corporation's contact person by 5:00 p.m. Thursday, September 18, 2003.

FOR FURTHER INFORMATION CONTACT: Michele Tennery, Senior Associate, Public Affairs, Corporation for National and Community Service, 8th Floor, Room 8601, 1201 New York Avenue NW, Washington, DC 20525. Phone (202) 606-5000 ext. 125. Fax (202) 565-2784. TDD: (202) 565-2799. E-mail: mtennery@cns.gov.

Dated: September 9, 2003.
Frank R. Trinity,
General Counsel.

[FR Doc. 03-23328 Filed 9-9-03; 2:39 pm]

BILLING CODE 6050-$$-P